FEDERAL COMMUNICATIONS COMMISSION

47 CFR Parts 73 and 76

[MB Docket Nos. 19-165, 17-105; FCC 20-8; FRS 16923]

Electronic Delivery of Notices to Broadcast Television Stations; Modernization of Media Regulation Initiative

AGENCY: Federal Communications Commission.

ACTION: Final rule; announcement of compliance date.

SUMMARY: In this document, the Federal Communications Commission (FCC) announces that the Office of Management and Budget (OMB) has approved non-substantive and non-material changes to the information collections associated with certain rule amendments adopted in the Report and Order, FCC 20-8, MB Docket Nos. 19-165, 17-105 (Report and Order), to modernize certain notice requirements for cable operators and direct broadcast satellite (DBS) providers. The Commission also announces that compliance with the revised rules is required. This document is consistent with Electronic Delivery of Notices to Broadcast Television Stations, published March 20, 2020, which stated that the Commission would publish a document in the Federal Register announcing the compliance date for the revised rules listed in the DATES section below.

DATES: Compliance with the amendments to 47 CFR 74.779, 76.54(e), 76.64(k), 76.66(d)(1)(vi), (d)(2)(ii), (v), and (vi), (d)(3)(iv), (d)(5)(i), (f)(3) and (4), and (h)(5), 76.1600(e), 76.1607, 76.1608, 76.1609, and 76.1617(a) and (c), published March 20, 2020, at 85 FR 15999, is required as of July 31, 2020.

FOR FURTHER INFORMATION CONTACT: Brendan Holland of the Media Bureau, Industry Analysis Division, at (202) 418-2757 or Brendan.Holland@fcc.gov.

SUPPLEMENTARY INFORMATION: This document announces that OMB approved the non-substantive and non-material changes to the information collection requirements in §§ 76.1607 and 76.1617(a) and (c) on March 19, 2020. OMB approved the non-substantive and non-material changes to the information collection requirements in §§ 76.54(e), 76.64(k), 76.66(d)(1)(vi), (d)(2)(ii), (v), and (vi), (d)(3)(iv), (d)(5)(i), (f)(3) and (4), and (h)(5), 76.1600(e), 76.1607, and 76.1608 on March 31, 2020, and the changes to § 76.1609 were approved by OMB on April 13, 2020. The remaining rule amendments adopted in the Report and Order did not contain new or modified information collection requirements subject to OMB approval under the Paperwork Reduction Act.

The Commission publishes this document as an announcement of the compliance date of the revised rules. If you have any comments on the burden estimates listed below, or how the Commission can improve the collections and reduce any burdens caused thereby, please contact Cathy Williams, Federal Communications Commission, Room 1-C823, 445 12th Street SW, Washington, DC 20554, regarding OMB Control Number 3060-1273. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received final OMB approval for the information collection requirements contained in §§ 76.54(e), 76.64(k), 76.66(d)(1)(vi), (d)(2)(ii), (v), and (vi), (d)(3)(iv), (d)(5)(i), (f)(3) and (4), and (h)(5), 76.1600(e), 76.1607, 76.1608, 76.1609, and 76.1617(a) and (c). Under 5 CFR part 1320, an agency may not conduct or sponsor a collection of information unless it displays a current, valid OMB Control Number.

No person shall be subject to any penalty for failing to comply with a collection of information subject to the Paperwork Reduction Act that does not display a current, valid OMB Control Number.

The foregoing is required by the Paperwork Reduction Act of 1995, Pub. L. 104-13, October 1, 1995, and 44 U.S.C. 3507.

The total annual reporting burdens and costs for the respondents are as follows:

OMB Control Number: 3060-0311.

OMB Approval Date: March 31, 2020.

OMB Expiration Date: March 31, 2023.

Title: Section 76.54, Significantly Viewed Signals; Method to be Followed for Special Showings.

Form Number: N/A.

Respondents: Business or other for-profit entities.

Number of Respondents and Responses: 500 respondents; 1,274 responses.

Estimated Time per Response: 1-15 hours (average).

Frequency of Response: On-occasion reporting and third-party disclosure requirements.

Total Annual Burden: 20,610 hours.

Total Annual Cost: $300,000.

Nature and Extent of Confidentiality: There is no need for confidentiality with this collection of information.

Privacy Act: No impact(s).

Needs and Uses: The information collection requirements contained in 47 CFR 76.54(b) state significant viewing in a cable television or satellite community for signals not shown as significantly viewed under 47 CFR 76.54(a) or (d) may be demonstrated by an independent professional audience survey of over-the-air television homes that covers at least two weekly periods separated by at least thirty days but no more than one of which shall be a week between the months of April and September. If two surveys are taken, they shall include samples sufficient to assure that the combined surveys result in an average figure at least one standard error above the required viewing level.

The information collection requirements contained in 47 CFR 76.54(c) are used to notify interested parties, including licensees or permittees of television broadcast stations, about audience surveys that are being conducted by an organization to demonstrate that a particular broadcast station is eligible for significantly viewed status under the Commission's rules. The notifications provide interested parties with an opportunity to review survey methodologies and file objections.

Lastly, 47 CFR 76.54(e) and (f), are used to notify television broadcast stations about the retransmission of significantly viewed signals by a satellite carrier into these stations' local market.

The FCC received approval from OMB for a non-substantive and non-material change to the information collection under OMB Control No. 3060-0311 as a result of the rulemaking discussed below.

On January 30, 2020, the Commission adopted a Report and Order, FCC 20-8, in MB Docket Nos. 19-165 and 17-105 (Report and Order). The Report and Order updated the Commission's notification rules for cable operators and direct broadcast satellite providers by transitioning certain written notices from paper to electronic delivery via email. To help effectuate this transition to email delivery of notices, the Report and Order revised 47 CFR 76.54(e) to require that after July 31, 2020, the notices mandated by the rule must be delivered to television broadcast stations electronically in accordance with 47 CFR 76.66(d)(2)(ii). The revised requirements are effective as stated in the summary of the Report and Order, published at 85 FR 15999, on March 20, 2020.

OMB Control Number: 3060-0419.

OMB Approval Date: April 13, 2020.

OMB Expiration Date: March 31, 2023.

Title: Sections 76.94, Notification; 76.95, Exceptions, 76.105, Notification; 76.106, Exceptions; 76.107, Exclusivity contracts; and 76.1609, Non duplication and syndicated exclusivity.

Form Number: N/A.

Respondents: Business or other for-profit entities.

Number of Respondents and Responses: 5,977 respondents; 249,577 responses.

Estimated Time per Response: 0.5 to 2.0 hours.

Frequency of Response: On-occasion reporting requirement; One-time reporting requirement; Third-party disclosure requirement.

Obligation to Respond: Required to obtain or retain benefits. Statutory authority for this information collection is contained in Section 4(i) of the Communications Act of 1934, as amended.

Total Annual Burden: 233,153 hours.

Total Annual Cost: No cost.

Nature and Extent of Confidentiality: There is no need for confidentiality with this collection of information.

Privacy Act: No impact(s).

Needs and Uses: The Commission rules that are covered under this collection require broadcast television stations and program distributors to notify cable television system operators of network non-duplication protection and syndicated exclusivity rights being sought within prescribed limitations and terms of contractual agreements. These various notification and disclosure requirements are to protect broadcasters who purchase the exclusive rights to transmit network and syndicated programming in their recognized markets. The FCC received approval from OMB for a non-substantive and non-material change to the information collection under OMB Control No. 3060-0419 as a result of the rulemaking discussed below.

On January 30, 2020, the Commission adopted a Report and Order, FCC 20-8, in MB Docket Nos. 19-165 and 17-105 (Report and Order). The Report and Order updated the Commission's notification rules for cable operators and direct broadcast satellite providers by transitioning certain written notices from paper to electronic delivery via email. To help effectuate this transition to email delivery of notices, the Report and Order revised 47 CFR 76.1609 to require that after July 31, 2020, the notices mandated by the rule must be delivered to broadcast stations electronically in accordance with 47 CFR 76.1600. The revised requirements are effective as stated in the summary of the Report and Order, published at 85 FR 15999, on March 20, 2020.

OMB Control Number: 3060-0649.

OMB Approval Date: March 19, 2020.

OMB Expiration Date: February 28, 2023.

Title: Section 76.1601, Deletion or Repositioning of Broadcast Signals; Section 76.1617, Initial Must-Carry Notice; Section 76.1607, Principal Headend.

Form Number: N/A.

Respondents: Business or other for-profit entities; Not for profit institutions.

Number of Respondents and Responses: 3,300 respondents; 3,950 responses.

Estimated Time per Response: 0.5 to 1.0 hours.

Frequency of Response: On-occasion reporting requirement; Third-party disclosure requirement.

Obligation to Respond: Required to obtain or retain benefits. Statutory authority for this information collection is contained in Section 4(i) of the Communications Act of 1934, as amended.

Total Annual Burden: 2,050 hours.

Total Annual Cost: No cost.

Nature and Extent of Confidentiality: There is no need for confidentiality with this collection of information.

Privacy Act: No impact(s).

Needs and Uses: The information collection requirements covered under this information collection are as follows:

Regulations at 47 CFR 76.1601 require that a cable operator shall provide written notice to any broadcast television station at least 30 days prior to either deleting from carriage or repositioning that station. Such notification shall also be provided to subscribers of the cable system.

Regulations at 47 CFR 76.1607 require that a cable operator shall provide written notice to all stations carried on its system pursuant to the must-carry rules at least 60 days prior to any change in the designation of its principal headend.

Regulations at 47 CFR 76.1617(a) state within 60 days of activation of a cable system, a cable operator must notify all qualified Non-Commercial Education (NCE) stations of its designated principal headend.

Regulations at 47 CFR 76.1617(b) state within 60 days of activation of a cable system, a cable operator must notify all local commercial and NCE stations that may not be entitled to carriage because they either fail to meet the standards for delivery of a good quality signal to the cable system's principal headend, or may cause an increased copyright liability to the cable system.

Regulations at 47 CFR 76.1617(c) state within 60 days of activation of a cable system, a cable operator must send a list of all broadcast television stations carried by its system and their channel positions to all local commercial and noncommercial television stations, including those not designated as must-carry stations and those not carried on the system.

The FCC received approval from OMB for a non-substantive and non-material change to the information collection under OMB Control No. 3060-0649 as a result of the rulemaking discussed below.

On January 30, 2020, the Commission adopted a Report and Order, FCC 20-8, in MB Docket Nos. 19-165 and 17-105 (Report and Order). The Report and Order updated the Commission's notification rules for cable operators and direct broadcast satellite providers by transitioning certain written notices from paper to electronic delivery via email. To help effectuate this transition to email delivery of notices, the Report and Order revised 47 CFR 76.1601, 76.1607, and 76.1617 to require that after July 31, 2020, the notices mandated by these rules must be delivered to broadcast stations electronically in accordance with 47 CFR 76.1600. The revised requirements are effective as stated in the summary of the Report and Order, published at 85 FR 15999, on March 20, 2020.

OMB Control Number: 3060-0652.

OMB Approval Date: March 31, 2020.

OMB Expiration Date: June 30, 2023.

Title: Section 76.309, Customer Service Obligations; Section 76.1600, Electronic Delivery of Notices; Section 76.1602, Customer Service—General Information, Section 76.1603, Customer Service—Rate and Service Changes and 76.1619, Information and Subscriber Bills.

Form Number: N/A.

Respondents: Business or other for-profit entities; State, Local or Tribal Government.

Number of Respondents and Responses: 4,113 respondents; 1,109,246 responses.

Estimated Time per Response: 0.0167 to 1.0 hours.

Frequency of Response: On-occasion reporting requirement; Third-party disclosure requirement.

Obligation to Respond: Required to obtain or retain benefits. Statutory authority for this collection of information is contained in Sections 4(i) and 632 of the Communications Act of 1934, as amended.

Total Annual Burden: 41,796 hours.

Total Annual Cost: No cost.

Nature and Extent of Confidentiality: There is no need for confidentiality with this collection of information.

Privacy Act: No impact(s).

Needs and Uses: The Commission requires that the various disclosure and notifications contained in this collection as a means of consumer protection to ensure that subscribers and franchising authorities are aware of cable operators' business practices, current rates, rate changes for programming, service and equipment, and channel line-up changes. Permitting the use of email modernizes the Commission's rules regarding notices required to be provided by MVPDs. The FCC received approval from OMB for a non-substantive and non-material change to the information collection under OMB Control No. 3060-0652 as a result of the rulemaking discussed below.

On January 30, 2020, the Commission adopted a Report and Order, FCC 20-8, in MB Docket Nos. 19-165 and 17-105 (Report and Order). The Report and Order updated the Commission's notification rules for cable operators and direct broadcast satellite providers by transitioning certain written notices from paper to electronic delivery via email. To help effectuate this transition to email delivery of notices, the Report and Order added to 47 CFR 76.1600 a new subsection (e) requiring that after July 31, 2020, cable operators must use email to deliver the notices required by §§ 76.64(k), 76.1601, 76.1607, 76.1608, 76.1609, and 76.1617 to broadcast television stations.

Specifically, after July 31, 2020, covered notices to full-power and Class A television stations must be emailed to the “carriage issues” inbox that the station publicizes in its online public inspection file (OPIF) in accordance with 47 CFR 73.3526 and 73.3527. Similarly, after July 31, 2020, covered notices to low-power television (LPTV) stations will be emailed to the inbox already provided by the station licensee in the Commission's Licensing and Management System (LMS) under existing procedures. After July 31, 2020, covered notices to qualified noncommercial educational (NCE) translator stations must be delivered to the email address listed for the licensee of the NCE translator station in LMS, or alternatively to the “carriage issues” email address listed in the primary station's OPIF, if the NCE translator station does not have its own email address listed in LMS. The revised requirements are effective as stated in the summary of the Report and Order, published at 85 FR 15999, on March 20, 2020.

OMB Control Number: 3060-0844.

OMB Approval Date: March 31, 2020.

OMB Expiration Date: February 28, 2023.

Title: Cable Carriage of Television Broadcast Stations: Section 76.56(a) Carriage of qualified noncommercial educational stations; Section 76.57, Channel positioning; Section 76.61(a)(1)-(2) Section 76.64, Retransmission consent.

Form Number: N/A.

Respondents: Business or other for-profit entities.

Number of Respondents and Responses: 4,902 respondents; 7,082 responses.

Estimated Time per Response: 0.5 to 5.0 hours.

Frequency of Response: On-occasion reporting requirement; Third-party disclosure requirement.

Obligation to Respond: Required to obtain or retain benefits. Statutory authority for this collection of information is contained in Sections 1, 4(i) and (j), 325, 338, 614, 615, 631, 632, and 653 of the Communications Act of 1934, as amended, 47 U.S.C. 151, 154(i) and (j), 325, 338, 534, 535, 551, 552, and 573.

Total Annual Burden: 4,486 hours.

Total Annual Cost: No cost.

Nature and Extent of Confidentiality: There is no need for confidentiality with this collection of information.

Privacy Act: No impact(s).

Needs and Uses: Under Section 614 of the Communications Act and the implementing rules adopted by the Commission, commercial TV broadcast stations are entitled to assert mandatory carriage rights on cable systems located within the station's television market. Under Section 325(b) of the Communications Act, commercial TV broadcast stations are entitled to negotiate with local cable systems for carriage of their signal pursuant to retransmission consent agreements in lieu of asserting must carry rights. This system is therefore referred to as “Must-Carry and Retransmission Consent.” Under Section 615 of the Communications Act, noncommercial educational (NCE) stations are also entitled to assert mandatory carriage rights on cable systems located within the station's market; however, noncommercial TV broadcast stations are not entitled to retransmission consent. The Commission's rules implementing sections 614 and 615 of the Communications Act require, among other things, that a cable system commencing new operation must notify all local commercial and noncommercial broadcast stations of its intent to commence service. The cable operator must send such notification at least 60 days prior to commencing cable service (New Cable System Notices). The new cable system must notify each station if its signal quality does not meet the standards for carriage and if any copyright liability would be incurred for the carriage of such signal. The FCC received approval from OMB for a non-substantive and non-material change to the information collection under OMB Control No. 3060-0844 as a result of the rulemaking discussed below.

On January 30, 2020, the Commission adopted a Report and Order, FCC 20-8, in MB Docket Nos. 19-165 and 17-105 (Report and Order). The Report and Order updated the Commission's notification rules for cable operators and direct broadcast satellite providers by transitioning certain written notices from paper to electronic delivery via email. To help effectuate this transition to email delivery of notices, the Report and Order revised 47 CFR 76.64(k) to require that after July 31, 2020, the New Cable System Notices mandated by the rule must be delivered to broadcast stations electronically in accordance with 47 CFR 76.1600. The revised requirements are effective as stated in the summary of the Report and Order, published at 85 FR 15999, on March 20, 2020.

OMB Control Number: 3060-0980.

OMB Approval Date: March 31, 2020.

OMB Expiration Date: February 28, 2023.

Title: Implementation of the Satellite Home Viewer Extension and Reauthorization Act of 1999: Local Broadcast Signal Carriage Issues and Retransmission Consent Issues—47 CFR Section 76.66.

Form Number: N/A.

Respondents: Business or other for-profit entities.

Number of Respondents and Responses: 3,410 respondents; 4,388 responses.

Estimated Time per Response: 0.5 to 5.0 hours.

Frequency of Response: On-occasion reporting requirement; Third-party disclosure requirement.

Obligation to Respond: Required to obtain or retain benefits. Statutory authority for this collection of information is contained in 47 U.S.C. 325, 338, 339, and 340.

Total Annual Burden: 3,576 hours.

Total Annual Cost: $24,000.

Nature and Extent of Confidentiality: There is no need for confidentiality with this collection of information.

Privacy Act: No impact(s).

Needs and Uses: On January 30, 2020, the Commission adopted a Report and Order, FCC 20-8, in MB Docket Nos. 19-165 and 17-105 (Report and Order). The Report and Order updated the Commission's notification rules for cable operators and direct broadcast satellite (DBS) providers by transitioning certain written notices from paper to electronic delivery via email. To help effectuate this transition to email delivery of notices, the Report and Order revised 47 CFR 76.66(d)(1)(vi), (d)(2)(i), (d)(2)(v), (d)(2)(vi), (d)(3)(iv), (d)(5)(i), (f)(3)-(4), and (h)(5) to require that after July 31, 2020, the notices mandated by these rules must be delivered to television broadcast stations electronically in accordance with 47 CFR 76.66(d)(ii). That rule, as revised by the Report and Order, requires that after July 31, 2020, covered notices to television broadcast stations must be emailed to the “carriage issues” inbox that the station publicizes in its online public inspection file (OPIF) in accordance with 47 CFR 73.3526 and 73.3527. The revised requirements are effective as stated in the summary of the Report and Order, published at 85 FR 15999, on March 20, 2020.

Federal Communications Commission.
Marlene Dortch,
Secretary.

[FR Doc. 2020-14960 Filed 7-14-20; 8:45 am]

BILLING CODE 6712-01-P